DEPARTMENT OF COMMERCE

International Trade Administration

[A-427-801, A-428-801, A-475-801]

Ball Bearings and Parts Thereof From France, Germany, and Italy; Amended Final Results of Antidumping Administrative Reviews

AGENCY: Import Administration, International Trade Administration, Department of Commerce

EFFECTIVE DATE: September 22, 2011.

FOR FURTHER INFORMATION CONTACT: Bryan Hansen, AD/CVD Operations, Office 5, Import Administration, International Trade Administration, U.S. Department of Commerce, 14th Street and Constitution Avenue, NW., Washington, DC 20230; telephone: (202) 482-3683.

SUPPLEMENTARY INFORMATION:

Background

On August 24, 2011, the Department of Commerce (the Department) published the final results of the administrative reviews of the antidumping duty orders on ball bearings and parts thereof from France, Germany, and Italy. See Ball Bearings and Parts Thereof From France, Germany, and Italy: Final Results of Antidumping Administrative and Changed Circumstances Reviews, 76 FR 52937 (August 24, 2011) (Final Results). The period of review is May 1, 2009, through April 30, 2010.

There were inadvertent typographical errors in certain company names in the Final Results. Therefore, these amended final results are different from the Final Results only with respect to the corrections of the following company names:

France: “Volkswagon AG” has been changed to “Volkswagen AG.” The weighted-average margin we determined for this company continues to be 5.47 percent.

Germany: “BSH Bosch and Siemens Hausgerate GmbH” has been changed to “BSH Bosch und Siemens Hausgerate GmbH;” “Volkswagon AG” has been changed to “Volkswagen AG”; “Robert Bosch GmbH Power Tools and Hagglunds Drives” has been changed to “Robert Bosch GmbH Power Tools” and “Hagglunds Drives.” The weighted-average margin we determined for these companies continues to be 6.25 percent.

Italy: “Perkin Engines Company Limited” has been changed to “Perkins Engines Company Ltd.” The weighted-average margin we determined for this company continues to be 10.27 percent.

We intend to issue liquidation instructions to U.S. Customs and Border Protection 15 days after publication of these amended final results of reviews.

These amended final results of administrative reviews are issued and published in accordance with sections 751(a)(1) and 777(i)(1) of the Tariff Act of 1930, as amended.

Dated: September 15, 2011.
Ronald K. Lorentzen,
Deputy Assistant Secretary for Import Administration.

[FR Doc. 2011-24368 Filed 9-21-11; 8:45 am]

BILLING CODE 3510-DS-P